DEPARTMENT OF ENERGY

Federal Energy Regulatory Commission

[Project No. 13355-000]

Middlebury Electric, LLC; Notice of Preliminary Permit Applications Accepted for Filing and Soliciting Comment, Motions To Intervene, and Competing Applications

April 8, 2009.

On January 22, 2009, Middlebury Electric, LLC, filed an application, pursuant to section 4(f) of the Federal Power Act, proposing to study the feasibility of the Middlebury Upper East Bank Hydroelectric Project, to be located on Otter Creek, in Addison County, Vermont.

The proposed Upper East Bank Hydroelectric Project consists of: (1) A refurbished abandoned mill structure including a new intake structure, penstock, tailrace and appurtenant facilities; (2) the millhouse would contain one or more turbine generating units with a total installed capacity of 0.4 megawatts; (3) a direct connection to an existing Central Vermont Public Service (CVPS) transmission line; and (4) appurtenant facilities. The Middlebury Upper Bank Project would have an estimated average annual generation of 3,400 megawatt-hours, which would be sold to CVPS.

Applicant Contact: Dr. Anders Holm, 1330 Exchange Street, Middlebury, VT 05445, phone (802) 233-9606.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13355) in the docket number field to access the document. For assistance, call toll-free 1-866-208-3372.

Kimberly D. Bose,
Secretary.

[FR Doc. E9-8558 Filed 4-14-09; 8:45 am]

BILLING CODE 6717-01-P